DEPARTMENT OF JUSTICE

Antitrust Division

Notice Pursuant to the National Cooperative Research and Production Act of 1993—LiMo Foundation

Notice is hereby given that, on July 1, 2010, pursuant to section 6(a) of the National Cooperative Research and Production Act of 1993, 15 U.S.C. 4301 et seq. (“the Act”), LiMo Foundation (“LiMo”) filed written notifications simultaneously with the Attorney General and the Federal Trade Commission disclosing changes in its membership. The notifications were filed for the purpose of extending the Act's provisions limiting the recovery of antitrust plaintiffs to actual damages under specified circumstances. Specifically, SRS Labs, Santa Ana, CA; Smart Communications, Inc., Makati City, Republic of the Philippines; NTT Data MSE Corporation, Yokohama, Japan; STEricsson AB, Lund, Sweden, have been added as parties to this venture. Specifically, Broadcom Corporation, Irvine, CA; OpenPlug, Sophia Antipolis, France; Packetvideo, San Diego, CA; STEricsson AT Holding AG, Milan, Italy; STEricsson Holding AG, Lund, Sweden, have withdrawn as parties to this venture.

No other changes have been made in either the membership or planned activity of this group research project. Membership in this group research project remains open, and LiMo intends to file additional written notifications disclosing all changes in membership.

On March 1, 2007, LiMo filed its original notification pursuant to section 6(a) of the Act. The Department of Justice published a notice in the Federal Register pursuant to section 6(b) of the Act on April 9, 2007 (72 FR 17583).

The last notification was filed with the Department on March 12, 2010. A notice was published in the Federal Register pursuant to section 6(b) of the Act on May 13, 2010 (75 FR 27000).

Patricia A. Brink,
Deputy Director of Operations, Antitrust Division.

[FR Doc. 2010-22213 Filed 9-8-10; 8:45 am]

BILLING CODE 4410-11-M